DEPARTMENT OF ENERGY

Federal Energy Regulatory Commission

[Docket No. EC02-29-000, et al.]

Allegheny Energy Supply Company, LLC, et al.; Electric Rate and Corporate Regulation Filings

November 28, 2001.

Take notice that the following filings have been made with the Commission:

1. Allegheny Energy Supply Company, LLC, and Allegheny Energy Global Markets, LLC New Allegheny Energy Supply Company

[Docket No. EC02-29-000]

Take notice that on November 21, 2001, Allegheny Energy Supply Company, LLC (AE Supply), Allegheny Energy Global Markets, LLC (Global Markets), and New Allegheny Energy Supply Company (New AE Supply) filed with the Federal Energy Regulatory Commission an application pursuant to section 203 of the Federal Power Act for authorization of an intra-corporate reorganization whereby the membership interests in Global Markets will be transferred to AE Supply, its parent, or New AE Supply in a merger transaction. New AE Supply will be organized as a Maryland company. Also on November 26, 2001, AE Supply filed original executed affidavits to the above-mentioned filing.

Comment date: December 12, 2001, in accordance with Standard Paragraph E at the end of this notice.

2. Conectiv Bethlehem, Inc.

[Docket No. EG01-278-000]

Take notice that on November 21, 2001, Conectiv Bethlehem, Inc. (CBI) filed, pursuant to section 365.8 of the Commission's regulations, Notice of Intent to No Longer Maintain Exempt Wholesale Generator Status.

Comment date: December 18, 2001, in accordance with Standard Paragraph E at the end of this notice. The Commission will limit its consideration of comments to those that concern the adequacy or accuracy of the application.

3. PJM Interconnection, L.L.C.

[Docket No. ER01-3014-001]

Take notice that on November 23, 2001, PJM Interconnection, L.L.C. (PJM), submitted a compliance filing pursuant to PJM Interconnection, L.L.C. 97 FERC ¶61,068 (2001) to provide additional information regarding the ownership of the generating facility located in Rock Springs Maryland.

Copies of this compliance filing were served upon all persons designated on the official service list compiled by the Secretary in Docket No. ER01-3014.

Comment date: December 14, 2001, in accordance with Standard Paragraph E at the end of this notice.

4. Midwest Independent Transmission System Operator, Inc.

[Docket No. ER01-3142-000]

Take notice that on November 26, 2001, Midwest Independent Transmission System Operator, Inc. (the Midwest ISO) tendered for filing proposed revisions to the Midwest ISO Open Access Transmission Tariff (OATT), FERC Electric Tariff, First Revised Volume No. 1. In its filing, the Midwest ISO requested to withdraw incentive portions of Attachments N and N-1, which were previously submitted on October 15, 2001 in this proceeding.

The Midwest ISO has electronically served copies of its filing, with attachments, upon all Midwest ISO Members, Member representatives of Transmission Owners and Non-Transmission Owners, the Midwest ISO Advisory Committee participants, Policy Subcommittee participants, as well as all state commissions within the region. In addition, the filing has been electronically posted on the Midwest ISO's website at www.midwestiso,org under the heading “Filings to FERC” for other interested parties in this matter.

Comment date: December 7, 2001, in accordance with Standard Paragraph E at the end of this notice.

5. New England Power Pool

[Docket No. ER02-02-001]

Take notice that on November 23, 2001, the New England Power Pool (NEPOOL) Participants Committee submitted a report of compliance in response to requirements of the Commission's unpublished letter order issued October 25, 2001 in Docket No. ER02-02-000.

The NEPOOL Participants Committee states that copies of these materials were sent to all persons identified on the service list in the captioned proceeding, as well as the Participants which were accepted for, or terminated from, membership in NEPOOL by the October 25 letter order.

Comment date: December 14, 2001, in accordance with Standard Paragraph E at the end of this notice.

6. Xcel Energy Services, Inc.

[Docket No. ER02-8-001]

Take notice that on November 23, 2001, Xcel Energy Services, Inc. (XES), on behalf of Public Service Company of Colorado (Public Service), submitted an Order 614 compliant version of a Second Amendment to the Power Purchase Agreement between Public Service Company of Colorado and Holy Cross Energy.

Comment date: December 14, 2001, in accordance with Standard Paragraph E at the end of this notice.

7. Florida Power Corporation

[Docket No. ER02-187-001]

Take notice that on November 23, 2001, Florida Power Corporation (FPC) filed a revised Service Agreement with The City of Homestead under FPC's Cost-Based Rates Tariff (CR-1), FERC Electric Tariff No. 9.

FPC is requesting an effective date of October 2, 2001 for this revised Agreement.

A copy of this filing was served upon the Florida Public Service Commission and the North Carolina Utilities Commission.

Comment date: December 14, 2001, in accordance with Standard Paragraph E at the end of this notice.

8. MidAmerican Energy Company

[Docket No. ER02-397-000]

Take notice that on November 23, 2001, MidAmerican Energy Company (MidAmerican), 401 Douglas Street, Sioux City, Iowa 51102, filed with the Federal Energy Regulatory Commission (Commission) Revised Rate Schedule 72, Western Area Power Administration, Pick-Sloan Missouri Basin Program, Contract for Firm Transmission Service from Iowa Public Service Company (n/k/a MidAmerican Energy Company), dated January 18, 1989, modified by way of Revised Exhibit “A.”

MidAmerican requests an effective date of September 1, 2001 for the Agreement.

MidAmerican has served a copy of the filing on Western Area Power Administration, the Iowa Utilities Board, the Illinois Commerce Commission, and the South Dakota Public Utilities Commission.

Comment date: December 14, 2001, in accordance with Standard Paragraph E at the end of this notice.

9. Illinois Power Company

[Docket No. ER02-398-000]

Take notice that on November 23, 2001, Illinois Power Company (Illinois Power), 500 South 27th Street, Decatur, Illinois 65251-2200, filed an Interconnection and Operating Agreement entered into with Aquila Piatt County Power, LLC (Aquila) and subject to Illinois Power's Open Access Transmission Tariff.

Illinois Power requests an effective date of November 13, 2001 for the Interconnection Agreement and seeks a waiver of the Commission's notice requirement. Illinois Power has served a copy of the filing on Aquila.

Comment date: December 14, 2001, in accordance with Standard Paragraph E at the end of this notice.

10. Illinois Power Company

[Docket No. ER02-399-000]

Take notice that on November 23, 2001, Illinois Power Company (Illinois Power), 500 South 27th Street, Decatur, Illinois 65251-2200, filed with the Commission an Emergency Energy Tariff (Tariff). Illinois Power states that it will offer emergency energy under the Tariff for the purpose of complying with its obligations under Guide No. 5B of the Mid-America Interconnected Network, Inc. (MAIN).

Illinois Power requests an effective date of February 2, 2001 for the Emergency Energy Tariff.

Illinois Power states that a copy of this filing has been mailed to each MAIN member currently participating in the Callable Reserves Emergency Energy Procedure under MAIN Guide No. 5B.

Comment date: December 14, 2001, in accordance with Standard Paragraph E at the end of this notice.

11. Carolina Power & Light Company

[Docket No. ER02-400-000]

Take notice that on November 23, 2001, Carolina Power & Light Company (CP&L) tendered for filing an executed Service Agreement between CP&L and the following eligible buyer, Exelon Generation Company, LLC. Service to this eligible buyer will be in accordance with the terms and conditions of CP&L's Market-Based Rates Tariff, FERC Electric Tariff No. 5.

CP&L requests an effective date of November 1, 2001 for this Service Agreement.

Copies of the filing were served upon the North Carolina Utilities Commission and the South Carolina Public Service Commission.

Comment date: December 14, 2001, in accordance with Standard Paragraph E at the end of this notice.

12. Xcel Energy Services Inc.

[Docket No. ER02-401-000]

Take notice that on November 23, 2001, Northern States Power Company and Northern States Power Company (Wisconsin) (jointly NSP), wholly-owned utility operating company subsidiaries of Xcel Energy Inc., tendered for filing a Short-Term Firm Point-to-Point Transmission Service Agreement between NSP and enXco. NSP proposes the Agreement be included in the Xcel Energy Operating Companies FERC Joint Open Access Transmission Tariff, First Revised Volume No. 1, as Service Agreement 194-NSP, pursuant to Order No. 614.

NSP requests that the Commission accept the agreement effective November 1, 2001.

Comment date: December 14, 2001, in accordance with Standard Paragraph E at the end of this notice.

13. Xcel Energy Services, Inc.; Northern States Power Company

[Docket No. ER02-402-000]

Take notice that on November 23, 2001, Xcel Energy Services, Inc. (XES), on behalf of Northern States Power Company (NSP) submitted for filing with the Federal Energy Regulatory Commission (Commission) Supplement No. 6 to the Transmission Services Agreement dated September 20, 1977, as amended between NSP and the State of South Dakota.

NSP requests the letter agreements be accepted for filing effective September 1, 2001.

Comment date: December 14, 2001, in accordance with Standard Paragraph E at the end of this notice.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-30052 Filed 12-4-01; 8:45 am]

BILLING CODE 6717-01-P